DEPARTMENT OF HEALTH AND HUMAN SERVICES

Health Resources and Services Administration

National Advisory Committee on Rural Health and Human Services; Notice of Meeting

In accordance with section 10(a)(2) of the Federal Advisory Committee Act (Pub. L. 92-463), notice is hereby given of the following meeting:

Name: National Advisory Committee on Rural Health and Human Services.

Date And Time: April 18, 2016, 8:30 a.m.-5:00 p.m., April 19, 2016, 8:30 a.m.-5:15 p.m., April 20, 2016, 8:30 a.m.-11:00 a.m.

Place: Keyserling Cancer Center, 1680b Ribaut Road, Port Royal, SC 29935, (843) 522-7800.

Status: The meeting will be open to the public.

Purpose: The National Advisory Committee on Rural Health and Human Services provides counsel and recommendations to the Secretary with respect to the delivery, research, development, and administration of health and human services in rural areas.

Agenda: The meeting on Monday, April 18, will be called to order at 8:30 a.m. by the Chairperson of the Committee, the Honorable Ronnie Musgrove. The Committee will examine the issue of Opioid Abuse Disorder in rural areas and alternatives for emergency care in rural communities at risk of losing their hospital. The day will conclude with a period of public comment at approximately 5:00 p.m.

The Committee will break into Subcommittees and depart for site visits Tuesday morning, April 19, at approximately 8:30 a.m. Subcommittees will visit the Beaufort County Department of Social Services and the Keyserling Cancer Center. The day will conclude at the Keyserling Cancer Center with a period of public comment at approximately 5:00 p.m.

The Committee will meet to summarize key findings and develop a work plan for the next quarter and the following meeting on Wednesday morning, April 20, at 8:30 a.m. at the Keyserling Cancer Center.

FOR FURTHER INFORMATION CONTACT: Steve Hirsch, MSLS, Administrative Coordinator, National Advisory Committee on Rural Health and Human Services, Health Resources and Services Administration, Parklawn Building, 17W61, 5600 Fishers Lane, Rockville, MD 20857, Telephone (301) 443-0835, Fax (301) 443-2803.

Persons interested in attending any portion of the meeting should contact Pierre Joseph at the Federal Office of Rural Health Policy (FORHP) via telephone at (301) 945-0897 or by email at PJoseph@hrsa.gov. Individuals who plan to attend and need special assistance, such as sign language interpretation or other reasonable accommodations, should notify the contact person listed above at least 10 days prior to the meeting. The Committee meeting agenda will be posted on the Committee's Web site at http://www.hrsa.gov/advisorycommittees/rural/.

Jackie Painter,
Director, Division of the Executive Secretariat.

[FR Doc. 2016-05998 Filed 3-16-16; 8:45 am]

BILLING CODE 4165-15-P